DEPARTMENT OF LABOR

Wage and Hour Division

Notice of Approved Agency Information Collection; Information Collection: Employment Information Form

ACTION: Notice.

SUMMARY: In accordance with the Paperwork Reduction Act (PRA), the Wage and Hour Division (WHD) is providing notice to the public that the WHD sponsored information collection request (ICR) titled, “Employment Information Form,” has been approved by the Office of Management and Budget (OMB). WHD is notifying the public that the information collection has been revised and extended effective immediately through November 30, 2024.

DATES: The OMB approval of the revision and extension of this information collection is effective immediately with an expiration date of November 30, 2024.

FOR FURTHER INFORMATION CONTACT: Robert Waterman, Division of Regulations, Legislation, and Interpretations, Wage and Hour, U.S. Department of Labor, Room S-3502, 200 Constitution Avenue NW, Washington, DC 20210; telephone: (202) 693-0406 (this is not a toll-free number) or by sending an email to WHDPRAComments@dol.gov. Copies of this notice may be obtained in alternative formats (Rich Text Format (RTF) or text format (txt), a thumb drive, an MP3 file, large print, Braille, audiotape, compact disc, or other accessible format), upon request, by calling (202) 693-0023 (not a toll-free number). TTY/TDD callers may dial toll-free (877) 889-5627 to obtain information or request materials in alternative formats.

SUPPLEMENTARY INFORMATION: The Department of Labor submitted a proposed revision to the information collection titled Employment Information Form (OMB Control Number 1235-0021) in conjunction with a final rule. The final rule titled, “Increasing the Minimum Wage for Federal Contractors,” published in the Federal Register on November 24, 2021 (86 FR 67126). OMB issued a Notice of Action on November 30, 2021 approving the collection and extending the expiration of the collection to November 30, 2024 under OMB Control Number 1235-0021.

Section (k) of 5 CFR 1320.11, “Clearance of Collections of Information in Proposed Rules” states, “After receipt of notification of OMB's approval, instruction to make a substantive or material change to, disapproval of a collection of information, or failure to act, the agency shall publish a notice in the Federal Register to inform the public of OMB's decision.” This notice fulfills the Department's obligation to notify the public of OMB's approval of the information collection request.

Dated: December 2, 2021.
Amy DeBisschop,
Director, Division of Regulations, Legislation, and Interpretation.

[FR Doc. 2021-26883 Filed 12-10-21; 8:45 am]

BILLING CODE 4510-27-P